DEPARTMENT OF COMMERCE

International Trade Administration

[A-588-835]

Notice of Extension of Time Limit for Preliminary Results of Administrative Antidumping Review: Oil Country Tubular Goods from Japan

AGENCY: Import Administration, International Trade Administration, Department of Commerce.

EFFECTIVE DATE: May 10, 2001.

FOR FURTHER INFORMATION CONTACT: Doug Campau, Holly Hawkins or Maureen Flannery, AD/CVD Enforcement, Import Administration, International Trade Administration, U.S. Department of Commerce, 14th Street and Constitution Avenue, NW., Washington DC 20230; telephone: (202) 482-1395, (202) 482-0414 or (202) 482-3020, respectively.

The Applicable Statute

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR part 351 (2000).

Background

In accordance with 19 CFR § 351.213(b)(2), the Department received a timely request from petitioner U.S. Steel Group that we conduct an administrative review of the sales of Sumitomo Metal Industries. On September 29, 2000, the Department initiated an administrative review of the antidumping duty order on oil country tubular goods (OCTG) for the period of review (POR) of August 1, 1999 to July 31, 2000, in order to determine whether merchandise imported into the United States is being sold at dumped prices.

Extension of Time Limits for Preliminary Results

Because of the complexity and timing of certain issues in this case, it is not practicable to complete this review within the time limits mandated by section 751(a)(3)(A) of the Act and section 351.213(h) of the Department's regulations. See Memorandum from Barbara E. Tillman to Joseph A. Spetrini, dated April 27, 2001 (on file in the public file of the Central Records Unit, Room B-099 of the Department of Commerce).

Therefore, in accordance with section 751(a)(3)(A) of the Act, the Department is extending the time limits for the preliminary results to no later than August 31, 2001.

Dated: May 2, 2001.
Joseph A. Spetrini,
Deputy Assistant Secretary for AD/CVD Enforcement III.

[FR Doc. 01-11843 Filed 5-9-01; 8:45 am]

BILLING CODE 3510-DS-P